DEPARTMENT OF STATE

[Public Notice 6689]

In the Matter of the Designation of Kata'ib Hizballah (and Other Aliases) as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Kata'ib Hizballah (and other aliases).

Therefore, I hereby designate that organization and its aliases as a foreign terrorist organization pursuant to section 219 of the INA.

This determination shall be published in the Federal Register.

Dated: June 24 2009.
James Steinberg,
Deputy Secretary of State, Department of State.

[FR Doc. E9-15661 Filed 7-1-09; 8:45 am]

BILLING CODE 4710-10-P